DEPARTMENT OF TRANSPORTATION

Federal Aviation Administration

14 CFR Part 71

[Docket No. FAA-2006-24424; Airspace Docket No. 06-ASO-6]

Amendment of Class D Airspace Pompano Beach; FL, Amendment of Class D Airspace, Fort Lauderdale Executive Airport, FL

AGENCY: Federal Aviation Administration (FAA), DOT.

ACTION: Final rule.

SUMMARY: This action will amend Class D airspace at Pompano Beach, FL and Fort Lauderdale Executive Airport, FL. As a result of the decommissioning of the Pompano Beach VHF Omnidirectional Range (VOR), the legal description for the Class D airspace at Pompano Beach, FL, and Fort Lauderdale Executive Airport, FL, must be changed.

DATES: Effective Date: 0901 UTC, August 3, 2006.

FOR FURTHER INFORMATION CONTACT: Mark D. Ward, Manager, Airspace and Procedures Branch, Air Traffic Division, Federal Aviation Administration, P.O. Box 20636, Atlanta, Georgia 30320; telephone (404) 305-5586.

SUPPLEMENTARY INFORMATION:

History

An internal evaluation determined that the legal description for the Class D airspace at Pompano Beach, FL and Fort Lauderdale Executive Airport, FL contains reference to a line made up of radials off the Pompano Beach VOR, which has been decommissioned. This action will amend the legal description by replacing the reference to a line made up of a VOR radial, with a line now made up of geographic coordinates. Designations for Class D airspace areas extending upward from the surface of the earth are published in Paragraphs 5000 of FAA Order 7400.9N, dated September 1, 2005, and effective September 16, 2005, which is incorporated by reference in 14 CFR part 71.1. The Class D designations listed in this document will be published subsequently in the Order.

Since this action has no impact on the users of the airspace in the vicinity of the Pompano Beach Airpark or Fort Lauderdale Executive Airport, notice and public procedure under 5 U.S.C. 553(b) are not necessary.

The Rule

This amendment to part 71 of the Federal Aviation Regulations (14 CFR part 71) amends Class D airspace at Pompano Beach, FL and Fort Lauderdale Executive Airport, FL.

The FAA has determined that this proposed regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (Air).

Adoption of the Amendment

In consideration of the foregoing, the Federal Aviation Administration amends 14 CFR part 71 as follows:

PART 71—DESGINATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of Federal Aviation Administration Order 7400.9N, Airspace Designations and Reporting Points, dated September 1, 2006, and effective September 16, 2006, is amended as follows:

Paragraph 5000 Class D airspace.

* * * * *

ASO FL D Pompano Beach, FL [REVISED]

Pompano Beach, Airpark, FL

(Lat. 26°14′50″ N, long. 80°06′40″ W)

Fort Lauderdale Executive Airport, FL

(Lat. 26°11′50″ N, long. 80°10′15″ W)

That airspace extending upward from the surface to and including 2,500 feet MSL within a 4-mile radius of Pompano Beach Airpark; excluding that portion southwest of a line between lat. 26°15′48″ N., long. 80°10′59″ W; and lat. 26°13′05″ N.; long. 80°08′36″ W and that portion south of a line 1 mile north of and parallel to the extended runway centerline of Runway 8/26 at Fort Lauderdale Executive Airport. This Class D airspace area is effective during the specific days and times established in advance by a Notice to Airmen. The effective days and times will thereafter be continuously published in the Airport/Facility Directory.

* * * * *

ASO FL D Fort Lauderdale Executive Airport, FL [REVISED]

Fort Lauderdale Executive Airport, FL

(Lat. 26°11′50″ N, long. 80°10′15″ W)

Fort Lauderdale-Hollywood International Airport, FL

(Lat. 26°04′21″ N, long. 80°09′10″ W)

That airspace extending upward from the surface to and including 2,500 feet MSL within a 4-mile radius of Fort Lauderdale Executive Airport; excluding that portion within the Fort Lauderdale-Hollywood International Airport, FL, Class C airspace area and that portion northeast of a line between lat. 26°15′48″ N; long. 80°10′59″ W; and lat. 26°13′05″ N; long. 80°08′36″ W and that portion north of a line 1 mile north of and parallel to the extended runway centerline of Runway 8/26 at Fort Lauderdale Executive Airport. This Class D airspace area is effective during the specific days and times established in advance by a Notice to Airmen. The effective days and times will thereafter be continuously published in the Airport/Facility Directory.

* * * * *

Issued in College Park, Georgia on May 31, 2006.
Mark D. Ward,
Acting Area Director, Air Traffic Division, Southern Region.

[FR Doc. 06-5185 Filed 6-6-06; 8:45 am]

BILLING CODE 4910-13-M